DEPARTMENT OF VETERANS AFFAIRS

[OMB Control No. 2900-0757]

Agency Information Collection Activity: Supportive Services for Veteran Families (SSVF) Program—Grant Application & Report

AGENCY: Veterans Health Administration, Department of Veterans Affairs.

ACTION: Notice.

SUMMARY: Veterans Health Administration (VHA), Department of Veterans Affairs (VA), is announcing an opportunity for public comment on the proposed collection of certain information by the agency. Under the Paperwork Reduction Act (PRA) of 1995, Federal agencies are required to publish notice in the Federal Register concerning each proposed collection of information, including each proposed extension of a currently approved collection, and allow 60 days for public comment in response to the notice.

DATES: Written comments and recommendations on the proposed collection of information should be received on or before September 13, 2021.

ADDRESSES: Submit written comments on the collection of information through Federal Docket Management System (FDMS) at www.Regulations.gov or to Janel Keyes, Office of Regulations, Appeals, and Policy (10BRAP), Department of Veterans Affairs, 810 Vermont Avenue NW, Washington, DC 20420 or email to Janel.Keyes@va.gov. Please refer to “OMB Control No. 2900-0757” in any correspondence. During the comment period, comments may be viewed online through FDMS.

FOR FURTHER INFORMATION CONTACT: Maribel Aponte, Office of Enterprise and Integration, Data Governance Analytics (008), 1717 H Street NW, Washington, DC 20006, (202) 266-4688 or email maribel.aponte@va.gov. Please refer to “OMB Control No. 2900-0757” in any correspondence.

SUPPLEMENTARY INFORMATION: Under the PRA of 1995, Federal agencies must obtain approval from the Office of Management and Budget (OMB) for each collection of information they conduct or sponsor. This request for comment is being made pursuant to Section 3506(c)(2)(A) of the PRA.

With respect to the following collection of information, VHA invites comments on: (1) Whether the proposed collection of information is necessary for the proper performance of VHA's functions, including whether the information will have practical utility; (2) the accuracy of VHA's estimate of the burden of the proposed collection of information; (3) ways to enhance the quality, utility, and clarity of the information to be collected; and (4) ways to minimize the burden of the collection of information on respondents, including through the use of automated collection techniques or the use of other forms of information technology.

Authority: Public Law 104-13; 44 U.S.C. 3501-3521.

Title: Supportive Services for Veteran Families (SSVF) Program—Grant Application & Report, VA Forms 10-10072, 10-10072a, 10-10072b and 10-10072c.

OMB Control Number: 2900-0757.

Type of Review: Reinstatement of a previously approved collection.

Abstract: The purpose of the Supportive Services for Veteran Families (SSVF) Program is to provide supportive services grants to private non-profit organizations and consumer cooperatives who will coordinate or provide supportive services to very low-income veteran families who are residing in permanent housing, are homeless and scheduled to become residents of permanent housing within a specified time period, or after exiting permanent housing, are seeking other housing that is responsive to such very low-income veteran family needs and preferences. The following VA forms are included in this collection, as well as templates and a certification that do not require PRA clearances.

a. Application for Supportive Services Grants, VA Form 10-10072

b. Participant Satisfaction Survey, VA Form 10-10072a

c. Quarterly Grantee Performance Report, VA Form 10-10072b

d. Renewal Application, VA Form 10-10072c

e. Applicant Budget Template

f. Financial Report Template

g. Grantee Certification

Affected Public: Individuals and households.

Estimated Annual Burden: 25,505 hours.

Estimated Average Burden per Respondent: 125 minutes.

Frequency of Response: Average of twice annually.

Estimated Number of Respondents: 12,270.

By direction of the Secretary.
Maribel Aponte,
VA PRA Clearance Officer, Office of Enterprise and Integration/Data Governance Analytics, Department of Veterans Affairs.

[FR Doc. 2021-15082 Filed 7-14-21; 8:45 am]

BILLING CODE 8320-01-P